DEPARTMENT OF EDUCATION

[Docket No.: ED-2024-SCC-0022]

Agency Information Collection Activities; Submission to the Office of Management and Budget for Review and Approval; Comment Request; The College Assistance Migrant Program (CAMP) Annual Performance Report (APR)

AGENCY: Office of Elementary and Secondary Education (OESE), Department of Education (ED).

ACTION: Notice.

SUMMARY: In accordance with the Paperwork Reduction Act (PRA) of 1995, the Department is proposing a revision of a currently approved information collection request (ICR).

DATES: Interested persons are invited to submit comments on or before June 10, 2024.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Andrew Brake, (202) 453-6136.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: The College Assistance Migrant Program (CAMP) Annual Performance Report (APR).

OMB Control Number: 1810-0727.

Type of Review: Revision of a currently approved ICR.

Respondents/Affected Public: State, Local, and Tribal Governments.

Total Estimated Number of Annual Responses: 60.

Total Estimated Number of Annual Burden Hours: 1,380.

Abstract: This information collection request revises the 1810-0727 College Assistance Migrant Program (CAMP) Annual Performance Report (APR) collection. These changes include language replacements, removals, and additions intended to ensure compliance with 34 CFR 75.110 and OMB Circular A-110, improve clarity of instructions and data collection, and remove duplicative language. Substantive changes include the addition of a data element related to mode of instruction and the removal of a data element related to the SAT and ACT. For a complete list of revisions, please see the attached summary, which will be shared with the public and Office of Management and Budget (OMB) as a supplemental document.

The Office of Migrant Education (OME) collects information for the CAMP, which is authorized under Title IV, Section 418A of the Higher Education Act of 1965, as amended by Section 408 of the Higher Education Opportunity Act (HEOA) (20 U.S.C. 1070d-2) (special programs for students whose families are engaged in migrant and seasonal farmwork), and 2 CFR 200.328, which requires that recipients of discretionary grants submit an APR to best inform improvements in program outcomes and productivity.

Although the Education Department continues to use the generic 524B, the OME requests continued use of a customized APR that goes beyond the generic 524B APR to facilitate the collection of more standardized and comprehensive data to inform performance measure indicators, to improve the overall quality of data collected, and to increase the quality of data that can be used to inform policy decisions.

Dated: May 6, 2024.
Kun Mullan,
PRA Coordinator, Strategic Collections and Clearance Governance and Strategy Division, Office of Chief Data Officer, Office of Planning, Evaluation and Policy Development.

[FR Doc. 2024-10207 Filed 5-9-24; 8:45 am]

BILLING CODE 4000-01-P